AGENCY FOR INTERNATIONAL DEVELOPMENT

Notice of October 15 Board for International Food and Agricultural Development (BIFAD) Meeting

AGENCY: United States Agency for International Development.

ACTION: Notice of meeting.

SUMMARY: Pursuant to the Federal Advisory Committee Act, notice is hereby given of the public meeting of the Board for International Food and Agricultural Development (BIFAD).

Date: Tuesday, October 15, 2013.

Time: 8:00 a.m. to 5:00 p.m.

Location: Downtown Des Moines Marriott, 700 Grand Avenue, Des Moines, Iowa.

Agenda

The public business meeting will begin promptly at 8:00 a.m. with opening remarks by BIFAD Chair Brady Deaton. The Board will address both old and new business during this time and will hear from USAID, the university community and other experts on progress and mechanisms for advancing programming in agricultural research and capacity development. During the business session the BIFAD will host a panel of key authors who will discuss trends in funding for Global Agricultural Research and Development and Innovation, moderated by BIFAD member Catherine Bertini. The BIFAD then will receive updates from USAID on its Feed the Future Innovation Labs and the Higher Education Solutions Network in a panel moderated by BIFAD member Marty McVey. The BIFAD chair will present the reinstituted `BIFAD Award for Scientific Excellence in a USAID Collaborative Research Support Program.' Additional time for public comment will be allowed following the award. At 12:15, the BIFAD will adjourn for lunch followed by afternoon panel sessions.

In the afternoon starting promptly at 2:00 p.m. the BIFAD Chair Brady Deaton and Julie Borlaug from Texas A&M will make opening remarks to convene the first of four panels focused on Human and Institutional Capacity Development (HICD) in Agricultural Research; Agricultural Training and Education; Extension; Policy, Agribusiness and Open Data; and Exploration of Capacity Development Opportunities with the Private Sector and Massive Open Online Courses (MOOCs). Time will be allowed for public comment. These panels will be followed by a poster session and reception hosted by the U.S. Agency for International Development and BIFAD. The central theme of this year's meeting will be “Human and Institutional Capacity Development.”

Dr. Brady Deaton, BIFAD Chair and Chancellor of the University of Missouri at Columbia, will preside over the meeting.

Stakeholders

Those wishing to attend the meeting or obtain additional information about BIFAD contact Susan Owens, Executive Director and Designated Federal Officer for BIFAD. Interested persons may write to her in care the U.S. Agency for International Development, Ronald Reagan Building, Bureau for Food Security, 1300 Pennsylvania Avenue NW., Room 2.09-067, Washington, DC, 20523-2110 or telephone her at (202) 712-0218.

FOR FURTHER INFORMATION CONTACT: Susan Owens, Executive Director and Designated Federal Officer for BIFAD.

Dated: September 17, 2013.
Susan Owens,
Executive Director and Designated Federal Officer for BIFAD, U.S. Agency for International Development.

[FR Doc. 2013-23112 Filed 9-20-13; 8:45 am]

BILLING CODE P